DEPARTMENT OF AGRICULTURE

Food Safety and Inspection Service

[Docket Number FSIS-2021-0029]

2022 Rate Changes for the Basetime, Overtime, Holiday, Laboratory Services, and Export Application Fees

Correction

In notice document 2021-28300, appearing on pages 74063-74065 in the issue of Wednesday, December 29, 2021, make the following correction:

On page 74063, in the third column, the second entry in the second column of the table that reads “2.60”, is corrected to read “82.60”.

[FR Doc. C1-2021-28300 Filed 1-21-22; 8:45 am]

BILLING CODE 0099-10-P